DEPARTMENT OF COMMERCE

Census Bureau

Agency Information Collection Activities; Submission to the Office of Management and Budget (OMB) for Review and Approval; Comment Request; The American Community Survey and Puerto Rico Community Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 13, 2022 during a 60-day comment period. This notice allows for an additional 30 days for public comments.

Agency: U.S. Census Bureau, Department of Commerce.

Title: The American Community Survey and the Puerto Rico Community Survey.

OMB Control Number: 0607-0810.

Form Number(s): ACS-1, ACS-1(SP), ACS-1(PR), ACS-1(PR)SP, ACS-1(GQ), ACS-1(PR)(GQ), GQFQ, ACS CAPI (HU), ACS RI (HU), AGQ QI, and AGQ RI.

Type of Request: Regular submission, Request for a Revision of a Currently Approved Collection.

Number of Respondents: 3,576,000 for household respondents; 20,100 for contacts in group quarters; 170,900 people in group quarters; 22,875 households for reinterview; and 1,422 group quarters contacts for reinterview. The total estimated number of respondents is 3,791,297.

Average Hours per Response: 40 minutes for the average household questionnaire; 15 minutes for a group quarters facility questionnaire; 25 minutes for a group quarters person questionnaire; 10 minutes for a household reinterview; 10 minutes for a group quarters-level reinterview.

Burden Hours: 2,384,000 for household respondents; 5,025 for contacts in group quarters; 71,208 for group quarters residents; 3,813 households for reinterview; and 237 group quarters contacts for reinterview. The estimate is an annual average of 2,464,283 burden hours.

Needs and Uses: The U.S. Census Bureau requests authorization from the OMB for revisions to the American Community Survey (ACS). The ACS is one of the Department of Commerce's most valuable data products, used extensively by businesses, nongovernmental organizations (NGOs), local governments, and many federal agencies. In conducting this survey, the Census Bureau's top priority is respecting the time and privacy of the people providing information while preserving its value to the public.

In 2024, the ACS plans to add internet self-response as an additional option to the group quarters data collection operation. The Census Bureau believes there is value in offering a self-response option to people living in certain types of group quarters—college/university student housing, group homes, military barracks, workers' group living quarters and Job Corps centers, and emergency and transitional shelters. The group quarters data collection operation will continue to offer paper, telephone, and in-person response options to collect data.

The Census Bureau is authorized by law (Title 13, U.S. Code) to use existing information that has already been collected by other government agencies, whenever possible and consistent with the kind, timeliness, quality, and scope of the statistics required, instead of asking for such information directly from the public. The Census Bureau is allowed to use these data for statistical purposes only and may not use these records for enforcement purposes or to decide on eligibility for a benefit. Additionally, Census Bureau research has shown that using administrative data can reduce respondent burden and improve the quality of the ACS data. In 2024, the Census Bureau will supplement or replace ACS survey data for the question asking about property acreage. The Census Bureau will continue research to explore how administrative data can be used for other items on the survey, with initial efforts focusing on other housing items, such as agricultural sales and year built.

In addition to using administrative records and in coordination with the Office of Management and Budget Interagency Committee for the ACS, the Census Bureau solicited proposals for question changes or additions from more than 20 federal agencies. Approved topics underwent cognitive testing to verify that proposed question wording would be understood by respondents. Based on cognitive testing results, the Census Bureau proposes to update wording in 2024 for questions on three topics: condominium fees, home heating fuel, and journey to work. The Census Bureau proposes to implement these three topics without additional testing; other topics are still undergoing testing.

The condominium fees question would be extended to include homeowners association (HOA) fees. Data sources continue to show housing units that are part of HOAs outnumber housing units in condominiums. In order to provide more comprehensive and accurate costs of owning a home, the ACS needs to capture HOA fees for these homes. Adding these fees to the existing condominium fees question avoids adding a new question to the ACS and therefore minimizes respondent burden.

The change to the home heating fuel question would update the natural gas and bottled gas categories. This will aid respondents in identifying the correct category more easily by using more commonly used terminology. In Puerto Rico, the question wording also changed to indicate respondents should only include fuel that heats their home.

The journey to work question would be updated to include ride-sharing services as a mode of transportation to work to account for new and growing travel trends. This will reduce ambiguity in the current question about where respondents should report ride-sharing commutes and will allow the government to monitor changes in transportation patterns for planning purposes.

Since the 60-day Federal Register Notice, Doc. 2022-19705, Volume 87, pages 55990-55993 posted on September 13, 2022, the Veterans Administration requested the ACS adjust the dates for the Vietnam War and Korean War to reflect the dates that they use for program evaluation (each period would be adjusted by one month). The Veterans Administration also requested that “Post 9/11” be added as a descriptor for the current service period; that “Vietnam era” be changed to “Vietnam War”; and names of war periods be moved to the end of the date range for uniform appearance. The Veterans Administration requested that the date ranges use the word “through” instead of “to” for clarity. The updated dates for period of service will match the dates that the Veterans Administration uses for program evaluation as well as the official historical dates of war periods published by the Congressional Research Service. Moving names of war periods to the end of service categories will create a more uniform appearance of the question text, with dates listed first for all periods.

The addition of White and Black or African American write-in lines in the race question led the Census Bureau to research redundancies between data collected from the improved race question and the ancestry question. Findings from this research may lead the Census Bureau to recommend the removal of the ancestry question from the American Community Survey.

The Census Bureau developed the ACS to collect and update demographic, social, economic, and housing data every year that are essentially the same as the “long-form” data that the Census Bureau formerly collected once a decade as part of the decennial census. The ACS blends the strength of small area estimation with the high quality of current surveys. The ACS is an ongoing monthly survey that collects detailed housing and socioeconomic data from about 3.5 million addresses in the United States and about 36,000 addresses in Puerto Rico each year. The ACS also collects detailed socioeconomic data from about 170,000 residents living in group quarters facilities in the United States and about 900 in Puerto Rico. The ACS is now the only source of comparable data about social, economic, housing, and demographic characteristics for small areas and small subpopulations across the nation and in Puerto Rico. Every community in the nation continues to receive a detailed, statistical portrait of its social, economic, housing, and demographic characteristics each year through one-year and five-year ACS products.

To collect the ACS data, the Census Bureau uses a multiple mode contact strategy. These modes include mail, internet, telephone, and personal visit. To encourage self-response in the ACS, the Census Bureau sends up to five mailings to housing units selected to be in the sample. The first mailing, sent to all mailable addresses in the sample, includes an invitation to participate in the ACS online and states that a paper questionnaire will be sent in a few weeks to those unable to respond online. The second mailing is a letter that reminds respondents to complete the survey online, thanks them if they have already done so, and informs them that a paper form will be sent at a later date if the Census Bureau does not receive their response. In a third mailing, the questionnaire package is sent only to those sample addresses that have not completed the online questionnaire within two and a half weeks. The fourth mailing is a postcard that reminds respondents to respond and informs them that an interviewer may contact them if they do not complete the survey. A fifth mailing is a letter sent to respondents who have not completed the survey within five weeks. This letter provides a due date and reminds the respondents to return their questionnaires to be removed from future contact. The Census Bureau will ask those who fill out the survey online to provide an email address, which will be used to send an email reminder to households that did not complete the online form. The reminder asks them to log back in to finish responding to the survey. If the Census Bureau does not receive a response or if the household refuses to participate, the address may be selected for computer-assisted personal interviewing, the nonresponse follow-up data collection mode.

Some addresses are deemed unmailable because the address is incomplete or directs mail only to a post office box. The Census Bureau currently collects data for these housing units using both online and computer-assisted personal interviewing. A small sample of respondents from the nonresponse follow-up data collection interview are recontacted for quality assurance purposes.

For sample housing units in the Puerto Rico Community Survey, a different mail strategy is employed. The Census Bureau continues to use the previously used mail strategy with no references to an internet response option. The Census Bureau sends up to five mailings to a Puerto Rico address selected to be in the sample. The first mailing includes a prenotice letter. The second and fourth mailings include the paper survey. The third and fifth mailings serve as a reminder to respond to the survey. Puerto Rico addresses deemed unmailable because the address is incomplete or directs mail only to a post office box are collected by computer-assisted personal interviewing. A small sample of respondents from the nonresponse follow-up data collection interview are recontacted for quality assurance purposes.

The Census Bureau uses a different strategy to collect data from group quarters. The Census Bureau defines group quarters as places where people live or stay, in a group living arrangement that is owned or managed by an entity or organization providing housing and/or services for the residents, such as college/university student housing, residential treatment centers, skilled nursing facilities, group homes, military barracks, correctional facilities, workers' group living quarters and Job Corps centers, and emergency and transitional shelters. The Census Bureau collects data for group quarters primarily through personal interview. The Census Bureau will obtain the facility information by conducting a personal visit interview with a group quarters contact. During this interview, the Census Bureau obtains roster of residents and randomly selects them for person-level interviews. During the person-level phase, a field representative uses a computer-assisted personal interviewing instrument to collect detailed information for each sampled resident. Field representatives also have the option to distribute a bilingual (English/Spanish) questionnaire to residents for self-response if unable to complete a computer-assisted personal interviewing interview. Beginning in 2024, residents in some group quarters will have the option to self-respond to the survey online. A small sample of respondents are recontacted for quality assurance purposes.

Affected Public: Individuals or households.

Frequency: Monthly.

Respondent's Obligation: Mandatory.

Legal Authority: Title 13 U.S.C. 141 and 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0810.

Sheleen Dumas,
Department PRA Clearance Officer, Office of the Chief Information Officer, Commerce Department.

[FR Doc. 2023-04952 Filed 3-9-23; 8:45 am]

BILLING CODE 3510-07-P